NATIONAL AERONAUTICS AND SPACE ADMINISTRATION

[Notice (00-072)]

Performance Review Board, Senior Executive Service (SES)

AGENCY: National Aeronautics and Space Administration (NASA).

ACTION: Notice of Membership of SES Performance Review Board.

SUMMARY: The Civil Service Reform Act of 1978, Pub. L. 95-454 (Section 405) requires that appointments of individual members to a Performance Review Board be published in the Federal Register.

The performance review function for the SES in the National Aeronautics and Space Administration is being performed by the NASA Performance Review Board (PRB) and the NASA Senior Executive Committee. The latter performs this function for senior executives who report directly to the Administrator or the Deputy Administrator and members of the PRB. The following individuals are serving on the Board and the Committee:

Performance Review Board

Ghassem Asrar, Chairperson, Associate Administrator for Earth Science, NASA Headquarters

John T. Pennington, Executive Secretary, Chief, Agency Executive

Personnel Branch, NASA Headquarters

Joan S. Peterson, Director, Personnel Division, NASA Headquarters

Robert M. Stephens, Deputy General Counsel, NASA Headquarters

Oceola S. Hall, Deputy Associate Administrator for Equal Opportunity Programs, NASA Headquarters

Earle K. Huckins, Deputy Associate Administrator for Space Science NASA Headquarters

Susan H. Garman, Associate Director, NASA Johnson Space Center

William F. Townsend, Deputy Director, NASA Goddard Space Flight Center

Kathie L. Olsen, Chief Scientist, Office of the Administrator, NASA Headquarters

Paula M. Cleggett, Deputy Associate Administrator for Public Affairs, NASA Headquarters

Delma C. Freeman, Deputy Director, Langley Research Center

Carolyn S. Griner, Deputy Director, NASA Marshall Space Flight Center

Wallace C. Sawyer, Deputy Director, NASA Dryden Flight Research Center

Mark Craig, Deputy Director, NASA Stennis Space Center

Senior Executive Committee

Daniel R. Mulville, Chairperson, Associate Deputy Administrator, NASA Headquarters

Joan S. Peterson, Executive Secretary, Director, Personnel Division, NASA Headquarters

Lori B. Garver, Associate Administrator for Policy and Plans, NASA Headquarters

Ghassem Asrar, Associate Administrator for Earth Science, NASA Headquarters

Vicki A. Novak, Associate Administrator for Human Resources and Education, NASA Headquarters

Daniel S. Goldin,
Administrator.

[FR Doc. 00-16042 Filed 6-23-00; 8:45 am]

BILLING CODE 7510-01-P